DEPARTMENT OF TRANSPORTATION

Federal Aviation Administration

Agency Information Collection Activities Under OMB Review

AGENCY: Federal Aviation Administration (FAA), DOT.

ACTION:

Notice.

SUMMARY: In compliance with the Paperwork Reduction Act of 1995 (44 U.S.C. 3501 et seq.), this notice announces that the Information Collection Requests (ICR) abstracted below have been forwarded to the Office of Management and Budget (OMB) for extension of the currently approved collections. The ICR describes the nature of the information collection and the expected burden. The Federal Register notices with a 60-day comment period soliciting comments on the following collections of information were published on august 11, 2003, pages 47628-47629, and March 8, 2004, pages 10806-10807, respectively.

DATES: Comments must be submitted on or before June 18, 2004. A comment to OMB is most effective if OMB receives it within 30 days of publication.

FOR FURTHER INFORMATION CONTACT: Judy Street on (202) 267-9895.

SUPPLEMENTARY INFORMATION:

Federal Aviation Administration (FAA)

1. Title: Certification: Pilots and Flight Instructors.

Type of Request: Revision of a currently approved collection.

OMB Control Number: 2120-0021.

Forms(s): FAA Form 8710-1.

Affected Public: A total of 125,500 pilots and flight instructors.

Abstract: 14 CFR part 61 prescribes certification standards for pilots, flight instructors, and ground instructors. The information collected is used to determine compliance with applicant eligibility.

Estimated Annual Burden Hours: An estimated 291,340 hours annually.

2. Title: Report of Inspections Required by airworthiness Directives, Part 39.

Type of Request: Extension of a currently approved collection.

OMB Control Number: 2120-0056

Forms(s): NA.

Affected Public: A total of 1120 aircraft owners and operators.

Abstract: Airworthiness directives are regulations issued to require corrective action to correct unsafe conditions in aircraft, engines, propellers, and appliances. Reports of inspections are often needed when emergency corrective action is taken to determine if the action was adequate to correct the unsafe condition. The respondents are aircraft owners and operators.

Estimated Annual Burden Hours: A total of 2,800 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on May 12, 2004.
Judith D. Street,
FAA Information Collection Clearance Officer, Standards and Information Division, APF-100.

[FR Doc. 04-11303 Filed 5-18-04; 8:45 am]

BILLING CODE 4910-13-M